DEPARTMENT OF AGRICULTURE

Forest Service

Information Collection: Post-Hurricane Research and Assessment of Agriculture, Forestry, and Rural Communities in the U.S. Caribbean

AGENCY: Forest Service, USDA.

ACTION: Notice; request for comments.

SUMMARY: In accordance with the Paperwork Reduction Act of 1995, the Forest Service is seeking comments from all interested individuals and organizations on the renewal of the currently approved information collection, Post-Hurricane Research and Assessment of Agriculture, Forestry, and Rural Communities in the U.S. Caribbean.

DATES: Comments concerning this notice must be received in writing on or before November 26, 2018 to be assured of consideration. Comments received after that date will be considered to the extent practicable.

ADDRESSES: Comments concerning this information collection should be addressed to Kathleen McGinley, Social Scientist, USDA Forest Service, International Institute of Tropical Forestry (IITF), 1201 Calle Ceiba, Rio Piedras, PR 00926. Comments also may be submitted via facsimile to 787-766-6302, or by email to kmcginley@fs.fed.us. Please put “Comments re: Post-Hurricane Research” in the subject line.

Comments submitted in response to this notice may be made available to the public through relevant websites and upon request. For this reason, please do not include in your comments information of a confidential nature, such as sensitive personal information or proprietary information. If you send an email comment, your email address will be automatically captured and included as part of the comment that is placed in the public docket and made available on the internet. Please note that responses to this public comment request containing any routine notice about the confidentiality of the communication will be treated as public comments that may be made available to the public notwithstanding the inclusion of the routine notice.

The public may inspect the draft supporting statement and/or comments received at IITF, 1201 Calle Ceiba, Río Piedras, PR 00926 during normal business hours. Visitors are encouraged to call ahead to 787-764-7790 to facilitate entry to the building. The public may request an electronic copy of the draft supporting statement and/or any comments received be sent via return email. Requests should be emailed to kmcginley@fs.fed.us.

FOR FURTHER INFORMATION CONTACT: Requests for additional information should be made to Kathleen McGinley, Social Scientist, USDA Forest Service, by electronic mail to kmcginley@fs.fed.us or phone 919-600-3108. Individuals who use telecommunication devices for the deaf (TDD) may call the Federal Relay Service (FRS) at 1-800-877-8339 twenty-four hours a day, every day of the year, including holidays.

SUPPLEMENTARY INFORMATION:

Title: Post-Hurricane Research and Assessment of Agriculture, Forestry, and Rural Communities in the U.S. Caribbean.

OMB Number: 0596-0246.

Expiration Date of Approval: 12/31/2018.

Type of Request: Renewal.

Abstract: In September 2017, two major hurricanes passed through the Caribbean, causing catastrophic damage to communities, infrastructure, farms, and forests across Puerto Rico, U.S. Virgin Islands, and many neighboring islands, significantly compromising local livelihoods, food security, and economic stability throughout the region. To date, there is limited information on the impacts of Hurricanes Irma and Maria, particularly in terms of agricultural and forestry systems and the people who depend on them, and likewise, limited information about the effectiveness of related conservation practices or mitigation and adaptation strategies. Such information is critical to the design and implementation of ongoing recovery work and to longer-term resilience efforts in the U.S. Caribbean and in other regions affected by hurricanes or other major disturbances.

Building on the initial data collection under the emergency approval, USDA Forest Service seeks this renewal to continue to collect information about the effects of Hurricanes Irma and Maria on agriculture, forestry, and rural communities in the U.S. Caribbean and the internal and external factors that affected their vulnerabilities or resilience. This renewal also will permit the investigation of vulnerabilities, resilience, and effects associated with future hurricanes or major storms that may occur within the three year time period for this requested approval. This information is essential to the Department of Agriculture mandate to support agriculture and natural resources that are productive, sustainable, and provide benefits for the American public under the Rural Development Policy Act of 1980, and to the Forest Service mandate to provide expert advice and conduct research on the management of forests outside the National Forest System through the Cooperative Forestry Assistance Act of 1978. Additionally, the importance of gathering, analyzing, and sharing this type of information is reflected in the National Agricultural Research, Extension, and Teaching Policy Act of 1977, as amended, and the Forest and Rangeland Renewable Resources Research Act of 1978.

Information will be collected through focus groups and interviews with participants selected purposively in line with the collection objectives. This collection will generate scientifically-based, up-to-date information that can be used to inform ongoing and any future recovery efforts and related risk reduction and mitigation and adaptation strategies by USDA, Forest Service, other Federal agencies, local government, civil society, and the private sector.

Affected Public: Individuals and Households, Private Sector Businesses, Non-Profit and Non-Governmental Organizations, State or Local Government.

Estimate of Annual Burden per Response: 45 minutes for interviews, 90 minutes for focus groups.

Estimated Annual Number of Respondents: 550.

Estimated Annual Number of Responses per Respondent: 1 response/respondent.

Estimated Total Annual Burden Hours on Respondents: 266 hours.

Comment Is Invited

Comment is invited on: (1) Whether this collection of information is necessary for the stated purposes and the proper performance of the functions of the Agency, including whether the information will have practical or scientific utility; (2) the accuracy of the Agency's estimate of the burden of the collection of information, including the validity of the methodology and assumptions used; (3) ways to enhance the quality, utility, and clarity of the information to be collected; and (4) ways to minimize the burden of the collection of information on respondents, including the use of automated, electronic, mechanical, or other technological collection techniques or other forms of information technology. USDA Forest Service will consider the comments received and amend the information collection as appropriate.

All comments received in response to this notice, including names and addresses when provided, will be a matter of public record. Comments will be summarized and included in the submission request toward Office of Management and Budget approval.

Dated: September 17, 2018.
Carlos Rodriguez-Franco,
Deputy Chief, Research & Development.

[FR Doc. 2018-20986 Filed 9-26-18; 8:45 am]

BILLING CODE 3411-15-P